DEPARTMENT OF VETERANS AFFAIRS

Advisory Committee on Cemeteries and Memorials; Notice of Meeting

The Department of Veterans Affairs (VA) gives notice under Pub. L. 92-463 (Federal Advisory Committee Act) that a meeting of the Advisory Committee on Cemeteries and Memorials will be held on November 30—December 1, 2004, at the Veterans Affairs Central Office, 810 Vermont Avenue, NW., Washington, DC. The meeting will be held in conference room 530. On November 30, 2004, the meeting will begin at 8 a.m. and conclude at approximately 4 p.m. On December 1, 2004, the meeting will begin at 8 a.m. and conclude at approximately 4:30 p.m. The meeting is open to the public.

The purpose of the Committee is to advise the Secretary of Veterans Affairs on the administration of national cemeteries, soldiers' lots and plots, the selection of new national cemetery sites, the erection of appropriate memorials, and the adequacy of Federal burial benefits. The Committee will make recommendations to the Secretary regarding these activities.

On November 30, 2004, the Committee will receive updates on the following: recommendations from the previous meeting; National Cemetery Administration (NCA) issues; field operations; Memorial programs; the Fiscal Year 2005 budget; construction; and the State Cemetery Grants Program. In the afternoon, the Committee will visit the World War II Memorial and lay a wreath. On December 1, 2004, the Committee will reconvene for the following: Multiple briefings on NCA outreach initiatives; the business session; discussions of any unfinished business and recommendations for future programs, meeting sites, and agenda topics.

Time will not be allocated for receiving oral presentations from the public. Any member of the public wishing to attend the meeting is requested to contact Mr. Timothy Boulay, Designated Federal Officer, at (202) 273-5204. The Committee will accept written comments. Comments can be transmitted electronically to the Committee at Timothy.Boulay@mail.va.gov or mailed to the National Cemetery Administration (41C2), 810 Vermont Avenue, NW., Washington, DC 20420. In the public's communications with the Committee, the writers must identify themselves and state the organizations, associations, or persons they represent.

Dated: October 26, 2004.
By direction of the Secretary.
E. Phillip Riggin,
Committee Management Officer.

[FR Doc. 04-24402 Filed 11-1-04; 8:45 am]

BILLING CODE 8320-01-M